DEPARTMENT OF COMMERCE

International Trade Administration

[A-351-806]

Silicon Metal from Brazil: Notice of Rescission of Antidumping Duty Administrative Review

AGENCY: Import Administration, International Trade Administration, Department of Commerce.

EFFECTIVE DATE: November 28, 2005.

FOR FURTHER INFORMATION CONTACT: Maisha Cryor, telephone: (202) 482-5831; Import Administration, International Trade Administration, U.S. Department of Commerce, 14TH Street and Constitution Ave., NW, Washington, DC 20230.

SUPPLEMENTARY INFORMATION:

Background

On July 1, 2005, the Department of Commerce (Department) published in the Federal Register a notice of “Opportunity to Request Administrative Review” of the antidumping duty order on silicon metal from Brazil for the period of review (POR) July 1, 2004, through June 30, 2005. See Antidumping or Countervailing Duty Order, Finding, or Suspended Investigation; Opportunity to Request Administrative Review, 70 FR 38099 (July 1, 2005). On July 29, 2005, Globe Metallurgical Inc., and Elkem Metals Company, producers of the domestic like product and interested parties in this proceeding, submitted timely requests that the Department conduct an administrative review of the antidumping duty order on silicon metal from Brazil for the POR covering Camargo Correa Metais S.A. (CCM), Ligas de Aluminio S.A. (LIASA), and Companhia Ferroligas de Minas Gerais-minasligas (Minasligas). The Department initiated an administrative review for CCM, LIASA, and Minasligas in August 2005. See Initiation of Antidumping and Countervailing Duty Administrative Reviews and Request for Revocation in Part, 70 FR 51009 (August 29, 2005). On September 1, 2005, the Department released the antidumping duty questionnaire to CCM, LIASA, and Minasligas. On September 2, 2005, in response to the Department's antidumping questionnaire, CCM, LIASA, and Minasligas submitted letters certifying that they had no sales or exports of subject merchandise to the United States during the POR. See Letters from CCM, LIASA, and Minasligas, regarding the “Fourteenth Administrative Review of Silicon Metal from Brazil” (September 2, 2005).

On October 19, 2005, the Department issued a memorandum stating that it had confirmed CCM, LIASA, and Minasligas' statements with U.S. Customs and Border Protection (CBP) and that it intended to rescind the administrative review. See Memorandum to Holly A. Kuga, Senior Office Director, AD/CVD Operations, Office 4, through Mark Manning, Acting Program Manager, AD/CVD Operations, Office 4, from Maisha Cryor, Analyst, AD/CVD Operations, Office 4, regarding “Rescission of the Antidumping Duty Administrative Review of Silicon Metal from Brazil for the Period of Review July 1, 2004, through June 30, 2005,” dated October 19, 2005 (Rescission Memorandum). The Rescission Memorandum was released to all interested parties, who were invited to comment on the Department's intent to rescind the administrative review. Id. The Department did not receive comments from any interested party.

Scope of the Order

The merchandise covered by this order is silicon metal from Brazil containing at least 96.00 percent but less than 99.99 percent silicon by weight. Also covered by this order is silicon metal from Brazil containing between 89.00 and 96.00 percent silicon by weight but which contains more aluminum than the silicon metal containing at least 96.00 percent but less than 99.99 percent silicon by weight. Silicon metal is currently provided for under subheadings 2804.69.10 and 2804.69.50 of the Harmonized Tariff Schedule of the United States (HTSUS) as a chemical product, but is commonly referred to as a metal. Semiconductor grade silicon (silicon metal containing by weight not less than 99.99 percent silicon and provided for in subheading 2804.61.00 of the HTSUS) is not subject to the order. Although the HTSUS item numbers are provided for convenience and for customs purposes, the written description remains dispositive.

Rescission of Administrative Review

In accordance with section 351.213(d)(3) of the Department's regulations, and consistent with our practice, we are rescinding this review because CCM, LIASA, and Minasligas were the only companies for which a review was requested and none of these companies had sales or exports of subject merchandise during the POR. See Certain Welded Carbon Steel Pipe and Tube from Turkey: Final Results and Partial Rescission of Antidumping Administrative Review, 63 FR 35190, 35191 (June 29, 1998).

Administrative Protective Orders

This notice also serves as a reminder to parties subject to administrative protective orders (APOs) of their responsibility concerning the return or destruction of proprietary information disclosed under APO in accordance with 19 CFR 351.305. Timely written notification of the return/destruction of APO materials or conversion to judicial protective order is hereby requested. Failure to comply with the regulations and terms of an APO is a violation that is subject to sanction.

This notice is published in accordance with section 751(a)(1) of the Tariff Act of 1930, as amended, and 19 CFR 351.213(d)(4).

Dated: November 19, 2005.
Stephen J. Claeys,
Deputy Assistant Secretary for Import Administration.

[FR Doc. E5-6580 Filed 11-25-05; 8:45 am]

BILLING CODE 3510-DS-S